DEPARTMENT OF COMMERCE

National Oceanic and Atmospheric Administration

50 CFR Part 622

[I.D. 021902F]

RIN 0648-AO62

Fisheries of the Caribbean, Gulf of Mexico, and South Atlantic; Coastal Migratory Pelagic Resources of the Gulf of Mexico and South Atlantic; Reef Fish Resources of the Gulf of Mexico; Charter Vessel and Headboat Permit Moratorium

AGENCY: National Marine Fisheries Service (NMFS), National Oceanic and Atmospheric Administration (NOAA), Commerce.

ACTION: Notice of availability of an amendment for a charter vessel/headboat permit moratorium; request for comments.

SUMMARY: NMFS announces that the Gulf of Mexico Fishery Management Council (Council) has submitted to NMFS an amendment for a charter vessel/headboat permit moratorium amending the fishery management plans (FMPs) for the Coastal Migratory Pelagic Resources of the Gulf of Mexico and South Atlantic (Amendment 14) and the Reef Fish Resources of the Gulf of Mexico (Amendment 20) for review, approval, and implementation. Amendments 14 and 20 would establish a 3-year moratorium on the issuance of charter vessel or headboat (for-hire) permits for the reef fish fishery and coastal migratory pelagics fishery in the exclusive economic zone (EEZ) of the Gulf of Mexico. In addition, as a consequence of the proposed moratorium, the current charter vessel/headboat permit for coastal migratory pelagic fish would have to be restructured as separate permits for the Gulf and South Atlantic. Written comments are requested from the public.

DATES: Written comments must be received on or before April 29, 2002.

ADDRESSES: Comments must be mailed to the Southeast Regional Office, NMFS, 9721 Executive Center Drive N., St. Petersburg, FL 33702. Comments may also be sent via fax to 727 522 5583. Comments will not be accepted if submitted via e-mail or Internet.

Copies of Amendments 14 and 20, which include an environmental assessment, a regulatory impact review, and copies of two related minority reports opposing implementation of the proposed moratorium may be obtained from the Gulf of Mexico Fishery Management Council, The Commons at Rivergate, 3018 U.S. Highway 301 North, Suite 1000, Tampa, FL 33619-2266; telephone: 813-228-2815; fax: 813-833-1844.

Written comments regarding the collection-of-information (e.g. permits) requirements contained in Amendments 14 and 20 may be submitted to Robert Sadler, Southeast Regional Office, NMFS, 9721 Executive Center Drive N., St. Petersburg, FL 33702, and to the Office of Information and Regulatory Affairs, Office of Management and Budget, Washington, DC 20503 (Attention: NOAA Desk Officer). Written comments regarding all other actions set forth in the amendment may be submitted to Phil Steele, Southeast Regional Office, NMFS, 9721 Executive Center Drive N., St. Petersburg, FL 33702.

FOR FURTHER INFORMATION CONTACT: Phil Steele, 727 570 5305; fax 727 570 5583; e-mail: Phil.Steele@noaa.gov.

SUPPLEMENTARY INFORMATION: The Magnuson-Stevens Fishery Conservation and Management Act (Magnuson-Stevens Act), as amended by the Sustainable Fisheries Act, requires each Regional Fishery Management Council to submit an FMP or FMP amendment to NMFS for review and approval, disapproval, or partial approval. The Magnuson-Stevens Act also requires that NMFS, upon receiving an FMP or FMP amendment, immediately publish a document in the Federal Register stating that the FMP or FMP amendment is available for public review and comment.

The Council, in cooperation with the Gulf charter vessel/headboat industry, developed Amendments 14 and 20 to address issues of increased fishing mortality and fishing effort in the for-hire sector of the recreational fishery. There are an estimated 3,220 recreational for-hire vessels in the Gulf of Mexico. Of these for-hire vessels, there are an estimated 1,275 charter vessels and 92 headboats; the remainder are probably smaller guide boats that usually fish inshore. The number of charter boats operating in the Gulf of Mexico has increased from 516 in 1981 to 1,275 in 1998 (147 percent), while the number of headboats has remained relatively stable during the same period. Further, the number of individual angler charter vessel trips increased by approximately 51 percent (through 1998) over the average number of trips from the previous decade.

During this same period, there has been an increase in the number of fish stocks identified as overfished or approaching an overfished state. In the January 2001 report to Congress on the Status of U.S. Fisheries, red snapper and red grouper were classified as being overfished and undergoing overfishing. Gag grouper was classified as undergoing overfishing and approaching an overfished state. King mackerel was classified as overfished and vermillion snapper was classified as undergoing overfishing. Further, the Council was notified by a letter from NMFS in January, 2001 that greater amberjack was overfished.

While all sectors have contributed to the overfishing or overfished status of these important fisheries, the proportion of landings attributed to the for-hire sector has increased substantially in recent years. The number of recreational red grouper landed by charter vessel and headboats increased from 14 percent (1988/1989) to 32 percent (1996 1997) of the total landings; the number of recreational red snapper landed increased from 34 percent (1981 1982) to 62 percent (1988 1989) to 71 percent (1996 1997) of the total landings. These increased catch rates by the recreational for-hire sector have contributed to the progressively earlier closures of the red snapper recreational fishery each year. This fishery was closed on November 27 in 1997, September 30 in 1998, and August 29 in 1999. This progressively longer closure period is adversely impacting the charter vessel headboat sector that is dependent on this stock. Additionally, the number of king mackerel landed by charter vessel and headboats increased from 17 percent in 1983 to 62 percent of the total landings in 1997. During the same period, landings for gag grouper increased from approximately 15 percent to 33 percent. Further, the recreational for-hire vessels historically have landed most of the recreational landings of vermillion snapper (90 percent) and greater amberjack (63 percent) during the period 1995/1996.

Amendments 14 and 20 would moderate short-term future increases in fishing effort and attempt to stabilize fishing mortality in the for-hire sector of the recreational fishery. The proposed moratorium is a form of limited access management that is intended to temporarily stabilize fishing effort by limiting the number of vessels in the fishery. It would allow the Council the time necessary to develop a more comprehensive effort limitation program designed to help restore overfished stocks. A large part of the considerations of whether a more comprehensive system is needed will be the determination of actions needed to restore the aforementioned overfished stocks.

A proposed rule that would implement measures outlined in Amendments 14 and 20 has been received from the Council. In accordance with the Magnuson-Stevens Act, NMFS is evaluating the proposed rule to determine whether it is consistent with the FMPs, the Magnuson-Stevens Act, and other applicable law. If that determination is affirmative, NMFS will publish the proposed rule in the Federal Register for public review and comment.

Comments received by April 29, 2002 whether specifically directed to the FMP or the proposed rule, will be considered by NMFS in its decision to approve, disapprove, or partially approve the FMP. Comments received after that date will not be considered by NMFS in this decision. All comments received by NMFS on the FMP or the proposed rule during their respective comment periods will be addressed in the final rule.

Authority: 16 U.S.C. 1801 et seq.

Dated: February 21, 2002.
Bruce C. Morehead,
Acting Director, Office of Sustainable Fisheries, National Marine Fisheries Service.

[FR Doc. 02-4672 Filed 2-26-02; 8:45 am]

BILLING CODE 3510-22-S